DEPARTMENT OF TRANSPORTATION

Federal Railroad Administration

[Docket Number FRA-2006-24216]

Petition for Extension of Waiver of Compliance

Under part 211 of title 49 Code of Federal Regulations (CFR), this document provides the public notice that on March 31, 2022, the Sacramento Regional Transit District (SRTD) petitioned the Federal Railroad Administration (FRA) for an extension of a waiver of compliance from certain provisions of the Federal railroad safety regulations contained at 49 CFR parts 222, Use of Locomotive Horns at Public Highway-Rail Grade Crossings; 229, Railroad Locomotive Safety Standards; and 234, Grade Crossing Safety. The relevant FRA Docket Number is FRA-2006-24216.

Specifically, SRTD requests a waiver extension from 49 CFR part 222; § 229.125, Headlights and auxiliary lights; and § 234.105(c)(3), Activation failure, for its rail fixed guideway public transit system that shares limited connections in corridors with Union Pacific Railroad (UP). The relief from part 222 would apply to 17 highway-rail grade crossings SRTD shares with UP on SRTD's Gold Line. The relief from § 229.125 and § 234.105(c)(3) would apply to all crossings SRTD shares with UP on the SRTD Blue and Gold lines. STRD adds that, in August 2022, it will be receiving 28 of 76 new low-floor light rail vehicles from Siemens Mobility Inc., to replace its fleet of Siemens vehicles. SRTD states that it believes the waiver extension is consistent with railroad safety.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by June 21, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-09603 Filed 5-4-22; 8:45 am]

BILLING CODE 4910-06-P